DEPARTMENT OF COMMERCE

Submission for OMB Review; Comment Request

The Department of Commerce will submit to the Office of Management and Budget (OMB) for clearance the following proposal for collection of information under the provisions of the Paperwork Reduction Act.

Agency: U.S. Census Bureau.

Title: Annual Survey of School System Finances.

OMB Control Number: 0607-0700.

Form Number(s): F-33, F-33-L1, F-33-L2, F-33-L3.

Type of Request: Extension of a currently approved collection.

Number of Respondents: 3,681.

Average Hours per Response: 1 hour and 4 minutes.

Burden Hours: 3,951.

Needs and Uses: The U.S. Census Bureau, on behalf of the U.S. Department of Education's National Center for Education Statistics (NCES), requests an extension of approval for the Annual Survey of School System Finances, the source of the most comprehensive national data set on school district finances.

The Census Bureau collects these data from the universe of school districts using uniform definitions and concepts of revenue, expenditure, debt, and assets as defined by the NCES handbook Financial Accounting for Local and State School Systems. This survey and the Annual Surveys of State and Local Government Finances (OMB No. 0607-0585) are conducted as part of the Census Bureau's State and Local Government Finance program. Through this program, the Census Bureau collects data from cities, counties, states, and special district governments as well as local school systems in order to produce state and national totals of government spending. Local school system spending comprises a significant portion of total government spending. In 2015, public elementary-secondary expenditures accounted for 34 percent of local government spending.

This comprehensive and ongoing time series collection of local education agency finances, dating back to 1957, provides historical continuity in the state and local government statistics community. Education finance statistics provided by the Census Bureau allow for analyses of how public elementary-secondary school systems receive and spend funds and is vital for policy making. Increased focus on education has led to a demand for data reflecting student performance, graduation rates, and school finance policy—all of which are related to the collection of this local education finance data. State legislatures, local leaders, university researchers, and parents increasingly rely on data to make substantive decisions about education.

The Bureau of Economic Analysis (BEA) uses data from the survey to develop figures for the Gross Domestic Product (GDP). Elementary-secondary education finance data items specifically contribute to the estimates for National Income and Product Accounts (NIPA), Input-Output accounts (I-O), and gross domestic investments. BEA also uses the data to assess other public fiscal spending trends and events.

The NCES use these annual data as part of the Common Core of Data (CCD) program. The education finance data collected by the Census Bureau are the sole source of school district fiscal information for the CCD as well as for the publication of annual reports on the fiscal state of education.

Form (F-33) covers elementary-secondary education finance items. In practice, this form serves more as a data processing guide rather than as a data collection instrument because the Census Bureau relies heavily on collecting this public school system finance data centrally from state education agencies centrally via the internet using File Transfer Protocol (FTP). Supplemental forms are sent to school systems in states where the state education agency cannot provide information on assets (F-33-L1), indebtedness (F-33-L2), or both (F-33-L3).

The Census Bureau makes available detailed files for all school systems from its internet website, https://www.census.gov/programs-surveys/school-finances.html. That website currently contains data files and statistical tables for the 1992 through 2015 fiscal year surveys. Historical files and publications prior to 1992 are also available upon request for data users engaged in longitudinal studies. In addition to numerous academic researchers who use F-33 products, staff receive inquiries from state government officials, legislatures, public policy analysts, local school officials, non-profit organizations, and various Federal agencies.

Affected Public: State, local or tribal government.

Frequency: Annually.

Respondent's Obligation: Voluntary.

Legal Authority: Title 13 U.S.C., Sections 8(b), 161, and 182 (Census authority); Title 20 U.S.C., Sections 9543-44 (NCES authority).

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-09766 Filed 5-7-18; 8:45 am]

BILLING CODE 3510-07-P